DEPARTMENT OF ENERGY

Federal Energy Regulatory Commission

Combined Notice of Filings #1

December 2, 2005.

Take notice that the Commission received the following electric rate filings.

Docket Numbers: ER01-2783-007.

Applicants: TEC Trading, Inc.

Description: TEC Trading, Inc submits documents of an updated market power analysis in compliance with FERC's 5/31/05 Order.

Filed Date: 11/22/2005.

Accession Number: 20051125-0065.

Comment Date: 5 p.m. eastern time on Tuesday, December 13, 2005.

Docket Numbers: ER02-2458-005.

Applicants: Midwest Independent Transmission System Operator, Inc.

Description: Midwest Independent Transmission System Operator, Inc supplement filing to the proposed revisions to Schedules 7, 8 and 9 of its Open Access Transmission & Energy Markets Tariff.

Filed Date: 11/23/2005.

Accession Number: 20051129-0138.

Comment Date: 5 p.m. eastern time on Wednesday, December 14, 2005.

Docket Numbers: ER02-973-003.

Applicants: UBS AG.

Description: UBS AG submits its updated market-based rate tariff and power analysis.

Filed Date: 11/23/2005.

Accession Number: 20051129-0165.

Comment Date: 5 p.m. eastern time on Wednesday, December 14, 2005.

Docket Numbers: ER04-691-066; EL04-104-062.

Applicants: Midwest Independent Transmission System Operator, Inc.

Description: Midwest Independent Transmission System Operator Inc submits its proposed revisions to the Open Access Transmission and Energy Market Tariff, FERC Electric Tariff, Third Revised Volume No. 1.

Filed Date: 11/23/2005.

Accession Number: 20051129-0162.

Comment Date: 5 p.m. eastern time on Wednesday, December 14, 2005.

Docket Numbers: ER05-1444-002.

Applicants: Midwest Independent Transmission System Operator, Inc.

Description: Midwest Independent Transmission System Operator, Inc submits an Amendment to the unexecuted Large Generator Interconnection Agreement with Mattoon Wind Farm, LLC and Central Illinois Public Service Company a/b/a Ameren CIPS.

Filed Date: 11/23/2005.

Accession Number: 20051129-0136.

Comment Date: 5 p.m. eastern time on Wednesday, December 14, 2005.

Docket Numbers: ER05-667-004.

Applicants: Midwest Independent Transmission System Operator, Inc.

Description: Midwest Independent Transmission System Operator, Inc submits the Large Generator Interconnection Agreement with Dakota Wind Harvest, LLC and Montana-Dakota Utilities Co. pursuant to section 205 of the Federal Power Act.

Filed Date: 11/23/2005.

Accession Number: 20051129-0137.

Comment Date: 5 p.m. eastern time on Wednesday, December 14, 2005.

Docket Numbers: ER06-217-001.

Applicants: Geysers Power Company, LLC.

Description: Geysers Power Co, LLC submits Substitute Fifth Revised Rate Schedule Sheet No. 111 for the Reliability Must-Run Service Agreement with ISO for the Geyers Main Units.

Filed Date: 11/23/2005.

Accession Number: 20051129-0133.

Comment Date: 5 p.m. eastern time on Wednesday, December 14, 2005.

Docket Numbers: ER06-244-000.

Applicants: Florida Power & Light Company.

Description: Florida Power & Light Co submits Service Agreement No. 236 for Long-Term Firm Point -To-Point Transmission Service with Georgia Transmission Corp and a notice of cancellation of Service Agreement 232.

Filed Date: 11/23/2005.

Accession Number: 20051129-0132.

Comment Date: 5 p.m. eastern time on Wednesday, December 14, 2005.

Docket Numbers: ER06-245-000.

Applicants: Allegheny Power.

Description: Allegheny Power submits a notice of cancellation of the Interconnection and Operation Agreement with Backbone Mountain Windpower LLC dated as of 12/31/01 Service Agreement No. 394.

Filed Date: 11/23/2005.

Accession Number: 20051129-0131.

Comment Date: 5 p.m. eastern time on Wednesday, December 14, 2005.

Docket Numbers: ER06-249-000.

Applicants: Yankee Atomic Electric Company.

Description: Yankee Atomic Electric Co's revisions to their wholesale power contracts, to revise the level of collections to recover the costs of completing the decommissioning of their retired nuclear generating plant.

Filed Date: 11/23/2005.

Accession Number: 20051130-0107.

Comment Date: 5 p.m. eastern time on Wednesday, December 14, 2005.

Any person desiring to intervene or to protest in any of the above proceedings must file in accordance with Rules 211 and 214 of the Commission's Rules of Practice and Procedure (18 CFR 385.211 and 385.214) on or before 5 p.m. eastern time on the specified comment date. It is not necessary to separately intervene again in a subDocket related to a compliance filing if you have previously intervened in the same Docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed Dockets(s). For assistance with any FERC Online service, please e-mail FERCOnlineSupport@ferc.gov. or call (866) 208-3676 (toll free). For TTY, call (202) 502-8659.

Magalie R. Salas,
Secretary.

[FR Doc. E5-7132 Filed 12-8-05; 8:45 am]

BILLING CODE 6717-01-P